DEPARTMENT OF THE INTERIOR

National Park Service

[N6389; NPS-WASO-NAGPRA-NPS0040641; PPWOCRADN0-PCU00RP14.R50000]

Notice of Intended Disposition: U.S. Department of the Air Force, Vandenberg Space Force Base, Santa Barbara County, CA

AGENCY: National Park Service, Interior.

ACTION: Notice.

SUMMARY: In accordance with the Native American Graves Protection and Repatriation Act (NAGPRA), the Department of the Air Force, Vandenberg Space Force Base intends to carry out the disposition of human remains and associated funerary objects removed from Federal land to the Santa Ynez Band of Chumash Mission Indians of the Santa Ynez Reservation, California.

DATES: Disposition of the human remain and associated funerary objects in this notice may occur on or after August 28, 2025. If no claim for disposition is received by July 29, 2026, the human remains and associated funerary objects in this notice will become unclaimed human remains and associated funerary objects.

ADDRESSES: Send written claims for disposition of the human remains and associated funerary objects in this notice to Josh Smallwood, Vandenberg Space Force Base Cultural Resources, Installation Tribal Liaison Officer/Cultural Resources Manager, SLD 30 CES/CEIEA, 1028 Iceland Avenue, Building 11146, Vandenberg Space Force Base, CA 93437-6010 email stacy.smallwood.1@spaceforce.mil.

SUPPLEMENTARY INFORMATION: This notice is published as part of the National Park Service's administrative responsibilities under NAGPRA. The determinations in this notice are the sole responsibility of the Department of the Air Force, and additional information on the human remains and associated funerary objects in this notice, including the results of consultation, can be found in the related records. The National Park Service is not responsible for the identifications in this notice.

Abstract of Information Available

As part of a National Historic Preservation Act Section 110 data recovery effort, two, closely spaced 1-meter by .5-meter test units (Test Units 1 and 2) were excavated from an eroding cliff deposit at CA-SBA-697 in September 2022. The site is located on the North Base portion of Vandenberg Space Force Base in Santa Barbara County, California. Based on the information available, a single human bone representing one individual has been reasonably identified. Four associated funerary objects including three olivella shell beads and a shell fishhook were also recovered. Non-NAGPRA artifacts including stone flakes, hammerstones, undifferentiated marine shell and faunal bone, fire-cracked rock and charcoal were also recovered from Test Units 1 and 2.

Determinations

The Department of the Air Force, Vandenberg Space Force Base has determined that:

• The human remains described in this notice represent the physical remains of one individual of Native American ancestry.

• The four associated funerary objects described in this notice is reasonably believed to have been placed intentionally with or near individual human remains at the time of death or later as part of the death rite or ceremony.

• The Santa Ynez Band of Chumash Mission Indians of the Santa Ynez Reservation, California has priority for disposition of the human remain and associated funerary objects described in this notice.

Claims for Disposition

Written claims for disposition of the human remains and associated funerary objects in this notice must be sent to the appropriate official identified in this notice under ADDRESSES. If no claim for disposition is received by July 29, 2026, the human remains and associated funerary objects in this notice will become unclaimed human remains and associated funerary objects. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains and associated funerary objects in this notice may occur on or after August 28, 2025. If competing claims for disposition are received, the Department of the Air Force, Vandenberg Space Force Base must determine the most appropriate claimant prior to disposition. Requests for joint disposition of the human remains and associated funerary objects are considered a single request and not competing requests. The Department of the Air Force, Vandenberg Space Force Base is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: July 16, 2025.
Mariah Soriano,
Acting Manager, National NAGPRA Program.

[FR Doc. 2025-14264 Filed 7-28-25; 8:45 am]

BILLING CODE 4312-52-P